DEPARTMENT OF COMMERCE

Office of the Secretary

Membership of the Performance Review Board for the Office of the Secretary

AGENCY: Office of the Secretary, Department of Commerce.

ACTION: Notice of Membership on the Office of the Secretary Performance Review Board.

SUMMARY: The Office of the Secretary, the Department of Commerce (DOC), announces the appointment of those individuals who have been selected to serve as members of the Performance Review Board. The Performance Review Board is responsible for reviewing performance appraisals and ratings of Senior Executive Service (SES) members and Senior Level (SL) members and making recommendations to the appointing authority on other performance management issues, such as pay adjustments, bonuses and Presidential Rank Awards. The appointment of these members to the Performance Review Board will be for a period of twenty-four (24) months.

DATES: The period of appointment for those individuals selected for the Office of the Secretary Performance Review Board begins on November 3, 2020.

FOR FURTHER INFORMATION CONTACT: Joan Nagielski, U.S. Department of Commerce, Office of Human Resources Management, Department of Commerce Human Capital Client Services, Office of Employment and Compensation, 14th and Constitution Avenue NW, Room 50013, Washington, DC 20230, at (202) 482-6342.

SUPPLEMENTARY INFORMATION: In accordance with 5 U.S.C. 4314(c)(4), the Office of the Secretary, Department of Commerce (DOC), announces the appointment of those individuals who have been selected to serve as members of the Office of the Secretary Performance Review Board. The Performance Review Board is responsible for (1) reviewing performance appraisals and ratings of Senior Executive Service (SES) and (SL) members and (2) making recommendations to the appointing authority on other performance management issues, such as pay adjustments, bonuses and Presidential Rank Awards. The appointment of these members to the Performance Review Board will be for a period of twenty-four (24) months. The name, position title, and type of appointment of each member of the Performance Review Board are set forth below:

1. Olivia Bradley, Deputy for Procurement Management, Policy and Performance Excellence, Career SES

2. Beth Grossman, Assistant General Counsel for Legislation and Regulation, OGC, Career SES

3. Robert Heilferty, Chief Counsel for Trade Enforcement and Compliance, OGC Career SES

4. LaJeune Desmukes, Director, Office of Small and Disadvantaged Business Utilization, OS, Career SES

5. James Maeder, Deputy Assistant Secretary for AD/CVD Operations, ITA, Career SES

6. John Costello, DAS for Intelligence and Security, OS, Non-career SES

7. Stephen Gardner, Chief Counsel for Commercial Law Development Program, OGC, Career SES

Dated: October 28, 2020.
Joan Nagielski,
Human Resources Specialist, Office of Employment and Compensation, Department of Commerce Human Capital Client Services, Office of Human Resources Management, Office of the Secretary, Department of Commerce.

[FR Doc. 2020-24281 Filed 11-2-20; 8:45 am]

BILLING CODE 3510-25-P